DEPARTMENT OF COMMERCE

Submission for OMB Review; Comment Request

The Department of Commerce has submitted to the Office of Management and Budget (OMB) for clearance the following proposal for collection of information under the emergency provisions of the Paperwork Reduction Act (44 U.S.C. Chapter 35).

Agency: National Oceanic and Atmospheric Administration (NOAA).

Title: Ohio Angler Survey.

Form Number(s): None.

OMB Approval Number: None.

Type of Request: Emergency submission.

Burden Hours: 325.

Number of Respondents: 1,050.

Average Hours Per Response: 15 minutes for two logbooks; 5 minutes for a survey questionnaire; and 5 minutes for a follow-up telephone survey.

Needs and Uses: This information collection will provide important assistance to the NOAA Damage Assessment Center (DAC) in performing Natural Resource Damage (NRD) assessments. In the course of assessing economic losses due to oil or chemical spills, DAC frequently employs econometric models of recreational activity. The Ohio Angler Survey will provide an estimate of an economic input essential to these models, by taking advantage of a situation unique to the Ohio State Park system. The respondents will be licensed Ohio anglers. They will be asked to complete semi-annual logs of their fishing and a one-time survey. Non-respondents will be asked to respond to a telephone survey.

Affected Public: Individuals or households.

Frequency: Semi-annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent by June 27, 2003 to David Rostker, OMB Desk Officer, Room 10202, New Executive Office Building, Washington, DC 20503.

Dated: June 17, 2003.
Gwellnar Banks,
Management Analyst, Office of the Chief Information Officer.

[FR Doc. 03-15951 Filed 6-23-03; 8:45 am]

BILLING CODE 3510-JE-S